DEPARTMENT OF EDUCATION

[Docket No.: ED-2021-SCC-0072]

Agency Information Collection Activities; Comment Request; Maintenance-of-Effort Requirements and Waiver Requests Under the Elementary and Secondary School Emergency Relief (ESSER) Fund and the Governor's Emergency Education Relief (GEER) Fund

AGENCY: Office of Elementary and Secondary Education (OESE), Department of Education (ED).

ACTION: Notice.

SUMMARY: In accordance with the Paperwork Reduction Act of 1995, ED is requesting the Office of Management and Budget (OMB) to conduct an emergency review of a revision of a currently approved collection.

DATES: OMB approved this information collection under emergency processing on April 19, 2021. A regular clearance process is also hereby being initiated. Interested persons are invited to submit comments on or before July 12, 2021.

ADDRESSES: To access and review all the documents related to the information collection listed in this notice, please use http://www.regulations.gov by searching the Docket ID number ED-2021-SCC-0072. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208D, Washington, DC 20202-8240.

FOR FURTHER INFORMATION CONTACT: For specific questions related to collection activities, please contact Britt Jung, 202-453-6046.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Maintenance-of-Effort Requirements and Waiver Requests under the Elementary and Secondary School Emergency Relief (ESSER) Fund and the Governor's Emergency Education Relief (GEER) Fund.

OMB Control Number: 1810-0745.

Type of Review: A revision of a currently approved collection.

Respondents/Affected Public: State, Local, and Tribal Governments Total Estimated Number of Annual Responses: 81.

Total Estimated Number of Annual Burden Hours: 358.

Abstract: The Department is requesting an emergency approval for a revision of the OMB approved CARES Act Maintenance of Effort (MOE) collection under OMB control number 1810-0745. In recognition of the immense challenges facing students, educators, staff, schools, LEAs, and SEAs right now, Congress has made additional ESSER and GEER funds available to SEAs and LEAs to prevent, prepare for, and respond to COVID-19 through the CRRSA Act and, most recently and significantly, the ARP Act. It is critical that States and Governors receive clear guidance on the MOE requirements under the CRRSA Act and the ARP Act to inform their spending decisions and implementation plans for the GEER and ESSER programs as SEAs and LEAs prepare to help schools return safely to in-person instruction, maximize in-person instructional time, sustain the safe operation of schools, and address the academic, social, emotional, and mental health impacts of the COVID-19 pandemic. This guidance and the associated collection provide States and Governors clear guidance they need to fully implement their GEER and ESSER programs. States and Governors have delayed distributing and spending funds due to the absence of guidance on the process for requesting waivers of MOE. Additionally, the Department will not be able to properly monitor GEER and ESSER recipients or provide technical assistance without collecting the MOE data and, when requested by States, grant MOE waiver requests.

Additional Information: If this collection is not allowed to proceed, States and Governors will not have the clear guidance they need to fully implement their GEER and ESSER programs. States and Governors have delayed distributing and spending funds due to the absence of guidance on the process for requesting waivers of MOE. Additionally, the Department will not be able to properly monitor GEER and ESSER recipients or provide technical assistance without collecting the MOE data and, when requested by States, grant MOE waiver requests.

Dated: May 6, 2021.
Kate Mullan,
PRA Coordinator, Strategic Collections and Clearance Governance and Strategy Division, Office of Chief Data Officer, Office of Planning, Evaluation and Policy Development.

[FR Doc. 2021-09953 Filed 5-10-21; 8:45 am]

BILLING CODE 4000-01-P